DEPARTMENT OF COMMERCE

National Institute of Standards and Technology

Announcing a Workshop on Spam Technology

AGENCY: National Institute of Standards and Technology (NIST).

ACTION: Notice of public workshop and request for participation.

SUMMARY: The National Institute of Standards and Technology (NIST) announces a workshop to discuss various technical issues of e-mail spam.

DATE: The Spam Technology Workshop will be held on February 17, 2004, from 9 a.m. to 4 p.m.

ADDRESSES: The Spam Technology Workshop will be held in the Administration Building (Bldg. 101), Green Auditorium, National Institute of Standards and Technology, Gaithersburg, MD.

FOR FURTHER INFORMATION CONTACT: Further information may be obtained from the Spam Technology Web site at http://csrc.nist.gov/spam or by contacting Joan Hash, National Institute of Standards and Technology, 100 Bureau Drive, Stop 8930, Gaithersburg, MD 20899-8930; telephone (301) 975-3357; fax (301) 975-4007, or e-mail joan.hash@nist.gov.

SUPPLEMENTARY INFORMATION: The workshop agenda topics will include filtering at the Internet/network and client sides (e.g., how to detect spam and how to reduce it), input from standards bodies on relevant current activities, Internet service providers' current and future plans to deal with spam, and technical issues regarding the efficacy of proposals to create “do not spam” lists. NIST is also interested in hearing about research challenges to developing and measuring improvements in spam control and reduction technology.

NIST also wishes to discuss idea for criteria and procedures (that might be developed by NIST and others, resources permitting) by which the effectiveness of spam controls products might be tested (e.g., by independent third party testing organizations).

Given the one-day workshop format, it is anticipated that following a keynote presentation and other opening remarks, there will be two sessions/panels in the morning and two in the afternoon. Anyone interested in speaking or coordinating a panel discussion should submit a paper or panel proposal to Joan Hash by December 31, 2003. Topics and proposed talks should not be “sales pitches” for specific commercial products or firms. Papers and additional information for distribution to workshop attendees and the website may also be submitted. (NIST may decide at its discretion not to include non-germane and product sales material.) Additional proposed agenda topics should be submitted immediately for consideration by the NIST planning committee.

Because of NIST security regulations, advance registration is mandatory; there will be no on-site, same-day registration. To register, please register via the web at http://www.nist.gov/conferences or fax the registration form with your name, address, telephone, fax and e-mail address to 301-948-2067 (Attn: Spam Technology Workshop) by February 3, 2004. The registration fee will be $70. Payment can be made by credit card, check, purchase order, and government training form. Registration questions should be addressed to Teresa Vicente on 301-975-3883 or teresa.vicente@nist.gov.

Authority

This work effort is being initiated pursuant to NIST's responsibilities under the Federal Information Security Management Act of 2002, the Computer Security Act of 1987, the Information Technology Management Reform Act of 1996, Executive Order 13011, and OMB Circular A-130.

Dated: November 20, 2003.
Arden L. Bement, Jr.,
Director.

[FR Doc. 03-29359 Filed 11-24-03; 8:45 am]

BILLING CODE 3510-CN-P